DEPARTMENT OF COMMERCE

National Oceanic and Atmospheric Administration

[RTID 0648-XE960]

Takes of Marine Mammals Incidental to Specified Activities; Taking Marine Mammals Incidental to the U.S. Fish and Wildlife Service, Farallon Islands National Wildlife Refuge's Research, Monitoring, and Management Activities in the South Farallon Islands, Farallon Islands National Wildlife Refuge Off San Francisco, California

AGENCY: National Marine Fisheries Service (NMFS), National Oceanic and Atmospheric Administration (NOAA), Commerce.

ACTION: Notice; proposed incidental harassment authorization; request for comments on proposed authorization and possible renewal.

SUMMARY: NMFS has received a request from the U.S. Fish and Wildlife Service, Farallon Islands National Wildlife Refuge (USFWS Refuge) for authorization to take marine mammals incidental to research, monitoring, and management activities in the South Farallon Islands, Farallon Islands National Wildlife Refuge off San Francisco, California. Pursuant to the Marine Mammal Protection Act (MMPA), NMFS is requesting comments on its proposal to issue an incidental harassment authorization (IHA) to incidentally take marine mammals during the specified activities. NMFS is also requesting comments on a possible one-time, 1-year renewal that could be issued under certain circumstances and if all requirements are met, as described in Request for Public Comments at the end of this notice. NMFS will consider public comments prior to making any final decision on the issuance of the requested MMPA authorization and agency responses will be summarized in the final notice of our decision.

DATES: Comments and information must be received no later than August 14, 2025.

ADDRESSES: Comments should be addressed to the Permits and Conservation Division, Office of Protected Resources, National Marine Fisheries Service and should be submitted via email to ITP.Potlock@noaa.gov. Electronic copies of the application and supporting documents, as well as a list of the references cited in this document, may be obtained online at: https://www.fisheries.noaa.gov/national/marine-mammal-protection/incidental-take-authorizations-research-and-other-activities. In case of problems accessing these documents, please call the contact listed below.

Instructions: NMFS is not responsible for comments sent by any other method, to any other address or individual, or received after the end of the comment period. Comments, including all attachments, must not exceed a 25-megabyte file size. All comments received are a part of the public record and will generally be posted online at https://www.fisheries.noaa.gov/permit/incidental-take-authorizations-under-marine-mammal-protection-act without change. All personal identifying information (e.g., name, address) voluntarily submitted by the commenter may be publicly accessible. Do not submit confidential business information or otherwise sensitive or protected information.

FOR FURTHER INFORMATION CONTACT: Kelsey Potlock, Office of Protected Resources, NMFS, (301) 427-8401.

SUPPLEMENTARY INFORMATION:

Background

The MMPA prohibits the “take” of marine mammals, with certain exceptions. Sections 101(a)(5)(A) and (D) of the MMPA (16 U.S.C. 1361 et seq.) direct the Secretary of Commerce (as delegated to NMFS) to allow, upon request, the incidental, but not intentional, taking of small numbers of marine mammals by U.S. citizens who engage in a specified activity (other than commercial fishing) within a specified geographical region if certain findings are made and either regulations are proposed or, if the taking is limited to harassment, a notice of a proposed IHA is provided to the public for review.

Authorization for incidental takings shall be granted if NMFS finds that the taking will have a negligible impact on the species or stock(s) and will not have an unmitigable adverse impact on the availability of the species or stock(s) for taking for subsistence uses (where relevant). Further, NMFS must prescribe the permissible methods of taking and other “means of effecting the least practicable adverse impact” on the affected species or stocks and their habitat, paying particular attention to rookeries, mating grounds, and areas of similar significance, and on the availability of the species or stocks for taking for certain subsistence uses (referred to in shorthand as “mitigation”); and requirements pertaining to the monitoring and reporting of the takings. The definitions of all applicable MMPA statutory terms used above are included in the relevant sections below and can be found in section 3 of the MMPA (16 U.S.C. 1362) and NMFS regulations at 50 CFR 216.103.

National Environmental Policy Act

To comply with the National Environmental Policy Act of 1969 (NEPA; 42 U.S.C. 4321 et seq.) and NOAA Administrative Order (NAO) 216-6A, NMFS must review our proposed action (i.e., the issuance of an IHA) with respect to potential impacts on the human environment.

This action is consistent with categories of activities identified in Categorical Exclusion B4 (IHAs with no anticipated serious injury or mortality) of the Companion Manual for NAO 216-6A, which do not individually or cumulatively have the potential for significant impacts on the quality of the human environment and for which we have not identified any extraordinary circumstances that would preclude this categorical exclusion. Accordingly, NMFS has preliminarily determined that the issuance of the proposed IHA qualifies to be categorically excluded from further NEPA review.

Summary of Request

On May 23, 2025, NMFS received a request from the USFWS Refuge for an IHA to take marine mammals incidental to research, monitoring, and management activities in the South Farallon Islands, Farallon Islands National Wildlife Refuge off San Francisco, California. Following NMFS' review of the application, the USFWS Refuge submitted a revised version on June 16, 2025. The application was deemed adequate and complete on June 18, 2025. The USFWS Refuge's request is for take of five marine mammal species by Level B harassment only. Neither the USFWS Refuge, nor NMFS, expects serious injury or mortality to result from this activity, therefore, an IHA is appropriate.

Description of Proposed Activity

Overview

The Farallon National Wildlife Refuge consists of several islands designated into four groups: the North Farallons, the Middle Farallons, the South Farallon Islands (the largest of the groups), and Noonday Rock. The North Farallons, Middle Farallons, and Noonday Rock were originally designated as the Farallon Refuge by President Theodore Roosevelt in 1909 (Executive Order 1043). In 1969, the South Farallon Islands were given Refuge-status. Congress further designated all these islands, except for the Southeast Farallon Island, as the Farallon Wilderness Area in 1974 (Pub. L. 93-550). More information on the history and management of the Refuge can be found in the Farallon National Wildlife Refuge Comprehensive Conservation Plan (USFWS, 2009) and on its website (https://www.fws.gov/refuge/farallon-islands/what-we-do).

The USFWS Refuge has proposed several activities at the South Farallon Island in the Farallon Islands National Wildlife Refuge that are intrinsically linked to the management of the Refuge and other natural resource research and monitoring activities, in accordance with the National Wildlife System Improvement Act of 1997 (Pub. L. 105-57, 111 Stat. 1252; 16 U.S.C. 668dd et seq.). Broadly, activities include several management actions (i.e., island access and transit to and from via small motorboat, sailboat, and helicopter; habitat restoration, facilities upkeep including maintenance, repair, removal, and construction; and cultural resource upkeep) and research and monitoring actions (i.e., wildlife (primarily seabirds) and plant research and oil spill monitoring). Field personnel and boat/helicopter use may occasionally cause incidental take via behavioral disturbance (Level B harassment) of pinniped species who reside year-round and haul-out on the South Farallon Islands.

Dates and Duration

Management and research activities, some of which are typically performed by Point Blue Conservation Science (Point Blue), typically occur year-round. However, given a shift in resource allocation, the USFWS Refuge is assisting Point Blue in some specific monitoring, research, and management activities. While the USFWS Refuge is currently planning on activities primarily occurring in the fall/winter of 2025 to 2026 (September through mid-March), some activities may also occur in the spring/summer (April through August).

Specifically, most of the seabird research would occur between mid-March and late August. Any plant surveys are expected to occur in the springtime (March through April) and in the late summer (mid-August through September). Any management activities, which includes construction and maintenance activities for the larger facilities, would occur between September 1 and March 15 to minimize disturbances to wildlife. Helicopters and small-motorized boats/sailboats would be used to transit personnel and supplies on and off the island. Helicopter use would only be used from September 1 through March 15 to avoid the breeding season for most of the seabirds and pinnipeds located on the island. Currently, any helicopter use that may be require is planned to occur from October to March to avoid a late-summer surge in California sea lion presence. Boat-use is planned for use when it is safe to do so (less likely in the fall to winter seasons as storms make boat landings dangerous) so more likely in the spring/summer time but some use in the fall/winter may be needed.

The proposed IHA would be valid for the statutory maximum of 1 year from the date of effectiveness, and will become effective upon written notification from the applicant to NMFS, but not beginning later than 1 year from the date of issuance or extending beyond 2 years from the date of issuance.

Specific Geographic Region

The Farallon National Wildlife Refuge consists of 211 acres (0.33 square miles (mi²)) located near the edge of the continental shelf. The proposed project would occur within the South Farallon Islands, which are located approximately 28 miles (mi; 45 kilometers (km)) offshore of San Francisco, California and contain an approximate land area of 120 acres (0.19 mi²) across two islands (Southeast Farallon Island and West End Island) and several smaller islets. Of all of the Islands that make up the Refuge, only the Southeast Farallon Islands are inhabited and contain infrastructure as nearly all of the USFWS Refuge's work and activities occur on this island. These islands sit within the Greater Farallones National Marine Sanctuary, which is a known important habitat for groundfish species (i.e., Farallon Island/Fanny Shoal area), salmon species (i.e., Chinook (Oncorhynchus tshawytscha) and Coho (Oncorhynchus kisutch)), and pelagic fish species (i.e., northern anchovy (Engraulis mordax) and Pacific sardine (Sardinops sagax)). The Southeast Farallon Island has two landings, North Landing and East Landing, where pinnipeds are known to haul-out and reside year-round.

Detailed Description of the Specified Activity

Management Activities—Island Access

To access the Southeast Farallon Island, small motorboats/sailboats, and helicopters are needed. Typically, personnel and cargo/supplies travel to and from the Southeast Farallon Island by motorboat/sailboat where they are then transferred to smaller 14 to 20 foot (ft (4.3 to 6.1 meters (m))) motorboats, which are hoisted by a derrick to one of two boat landings (i.e., East Landing and North Landing). Boat landings occur approximately two days per month for supplies and personnel and typically take between one to three hours. Each boat landing consists of the launching of the boat with a single operator, and two to four other personnel assisting with the operations from land. Loading activities at North Landing occur at the water level during the intertidal phase and activities at the East Landing (the primary landing site) occur using a loading platform raised 30 ft (9.1 m) over the water.

However, given resource allocation constraints, the Southeast Farallon Island, which is normally inhabited year-round (and has been for several decades), will likely be vacant for most of the fall-winter period, starting in the fall of 2025. Because of this (as well as stormy weather during the fall/winter time-of-year), boat landings become more difficult and dangerous to the field personnel. When the island's support staff is not present, helicopters become the primary approach to transport staff and supplies/cargo on and off the Southeast Farallon Island. On the Southeast Farallon Island, helicopters are only allowed to land at the helipad from September 1 through March 15 annually, upon receiving appropriate authorization from the USFWS Refuge. For the rest of the year, there is a closure prohibiting helicopter usage. This is to protect sensitive wildlife during their breeding seasons.

To reduce impacts to marine mammals, the USFWS Refuge has developed a flight plan for the helicopter for landings and departures to both minimize impacts to wildlife and to maximize aircraft and crew safety. Generally, most of pinniped habitat is located away from the flight path, with exception of Mussel Flat, which lies near the southwestern flight path and cannot by avoided by USFWS Refuge staff (see figure 2).

BILLING CODE 3510-22-P

BILLING CODE 3510-22-C

The harassment of marine mammals is likely to occur given the presence of people and use of boats and helicopters (inclusive of presence and noise). Additionally, some California sea lions are known to haul-out near and on the helipad and may require hazing to safely relocate them. Hazing would occur according to section 109(h) of the MMPA, which exempts taking of marine mammals by government officials as part of official duties, including for the protection or welfare of marine mammals as in this case, from the MMPA's prohibition on unauthorized take of marine mammals. Takes of marine mammals resulting from hazing activities are not included in the incidental take proposed for authorization here and hazing is not discussed further.

Management Activities—Habitat Restoration

Habitat restoration activities would consist of controlling non-native and invasive vegetation, which have been determined to be detrimental to nesting seabirds and other native vegetation. This invasive vegetation blocks the access to existing and potential seabird burrow breeding sites and competes with species and resources for native vegetation, such as Lasthenia maritima, which is used by surface-nesting seabirds for nesting materials. Other activities consist of the maintenance of artificial habitats that have been specifically constructed for seabirds. Two of these structures provide habitat for seabirds that nest in crevices while another structure provides a barrier against disturbance for seabirds. Two of these artificial habitat structures are located adjacent to the haul-out locations for California sea lions and Steller sea lions. The maintenance needed for these structures is sparse and only necessary every few years.

Other restoration activities may consist of the use or removal of excessive materials, such as older plumbing, electrical conduits, lumber, and other infrastructure materials, which are located throughout Southeast Farallon Island (primarily on the east and south sides of the island). If materials were reused, they would be used for artificial seabird nesting habitat creation in the upland areas away from the pinniped haul-out areas and habitat. If materials are removed, they would be removed by boat or helicopter (for more bulky/larger materials), which may necessitate hovering for a short period of time while the cargo is loaded or unloaded.

For all of these activities, marine mammals would likely be harassed behaviorally from the presence of humans collecting and transferring the materials and performing the activities and from the use of boats/helicopters to remove the materials. USFWS Refuge estimates approximately one to three days would be needed to remove excess material by either boat or helicopter during any effective period of the proposed project.

Management Activities—Facilities Maintenance, Repair, Removal, and Construction

On the Southeast Farallon Island, many aging structures from the 19th and mid-20th centuries still exist and may require work to remove, maintain, repair, or construct structures. The USFWS Refuge has developed a plan to downsize the infrastructure footprint on the Southeast Farallon Island, which involves removing potentially hazardous structures. Specifically, this will consist of a large demolition and construction project starting in September 2025 where a large water storage cistern on the east side of the Southeast Farallon Island would be dismantled and a new water catchment tank would be installed. Other major activities include the North Landing Boathouse roof and siding being replaced and necessary modifications being made to the houses, Powerhouse, and North Landing Boathouse to protect against vandalism and storms. This larger project is expected to take approximately one to two months and may occur either over a continuous period or intermittently in non-consecutive phases. The work needed and schedule are highly dependent on the contractor's ability to mobilize and the weather. Additionally, other repairs and activities would occur, including repairs and maintenance to the roofs of houses, the East Landing and North Landing derricks, the photovoltaic system at the Powerhouse, and the septic system. All major work would be expected to occur between September 1 through March 15 to minimize any disturbances to sensitive wildlife, including breeding seabirds and pupping pinnipeds.

Crews and supplies would arrive at the island mainly by helicopter with some boat support when safe to do so. Any cargo brought over would be delivered to the worksites via wheelbarrows and carts along pre-designated paths. Details on the helicopter and boat transports can be reviewed in the section above.

Marine mammals are expected to be behaviorally harassed via the use presence of humans, boats, and helicopters, and by the noise of the rotors and motors of the helicopters and boats. The presence of cargo and the construction noise (i.e., not greater than mechanical tools, hammering, etc.) may also cause harassment not expected to rise to a level exceeding behavioral harassment.

Management Activities—Cultural Resources

Proposed activities undertaken for the preservation and evaluation of cultural resources may be necessary by USFWS Refuge staff or assisting archaeologists. While Refuge policy specifically does not allow for the removal or destruction of any evaluated historical elements, some elements may need to be repaired or modified. For these activities, staff would need to continue to evaluate, remove, or reuse remnants of abandoned infrastructure (most of which was removed after 1969). Generally, these elements are located in the more upland areas of the Southeast Farallon Island, away from the intertidal and pinniped haul-out/pupping areas. However, the behavioral harassment of marine mammals may still occur due to human presence in and around hauled-out pinnipeds.

Research and Monitoring Activities—Wildlife (Bird) and Plant Research

A familiar activity on the Southeast Farallon Island, wildlife research and monitoring has been conducted for decades to examine and understand the life histories, populations, diet, productivity, and other ecological aspects of wildlife in the Farallon National Wildlife Refuge. To date, most of the work has been performed by Point Blue, who are currently covered for take incidental to some of these activities on the Southeast Farallon Island under a rulemaking and LOA (86 FR 27991, May 25, 2021). However, given changes to the allocation of resources, Point Blue may be reducing their presence on the Southeast Farallon Island for the fall/winter period and the USFWS Refuge will be taking over some of these responsibilities. Additionally, this provides the USFWS Refuge with the opportunity to implement their recently completed plant monitoring protocol.

The USFWS Refuge plans to take over some of the seabird research activities Point Blue originally was performing. These activities include observational and marking (i.e., netting and banding for capture-mark-recapture) studies of breeding seabirds. While some of these activities occur inland, others will require field personnel to travel to the shoreline where marine mammals could be present to conduct observational seabird research. Observational research will occur using an observation blind or censusing shorebirds and typically involves one to two observers. Any shoreline visits are typically brief (approximately 15 minutes in duration) during the fall/winter. In the spring/summer, seabird observers are typically present for two to five hours daily at the North Landing location to conduct observational studies on breeding Common Murres (Uria aalge). Seabird research activities typically require occasional visits to the island, currently estimated as a single three-day visit each month from September to February (an estimated total of 18 days).

Other activities on the Southeast Farallon Island include plant monitoring where one to three personnel would travel to different plots around the uplands of the island. These activities are expected to occur primarily between mid-March and early April over seven days.

For these activities, pinnipeds would likely be behaviorally harassed by the presence of field personnel more than any of the activities themselves. Most of the seabird and plant surveys would occur in areas away from the coastal haul-out sites; however, some surveys may necessitate that field personnel travel to areas where pinnipeds are located.

Proposed mitigation, monitoring, and reporting measures are described in detail further on in this document (please see Proposed Mitigation and Proposed Monitoring and Reporting).

Description of Marine Mammals in the Area of Specified Activities

Sections 3 and 4 of the application summarize available information regarding status and trends, distribution and habitat preferences, and behavior and life history of the potentially affected species. NMFS fully considered all of this information, and we refer the reader to these descriptions, instead of reprinting the information. Additional information regarding population trends and threats may be found in NMFS' Stock Assessment Reports (SARs; https://www.fisheries.noaa.gov/national/marine-mammal-protection/marine-mammal-stock-assessments) and more general information about these species (e.g., physical and behavioral descriptions) may be found on NMFS' website (https://www.fisheries.noaa.gov/find-species).

Table 1 lists all species or stocks for which take is expected and proposed to be authorized for this activity and summarizes information related to the population or stock, including regulatory status under the MMPA and Endangered Species Act (ESA) and potential biological removal (PBR), where known. PBR is defined by the MMPA as the maximum number of animals, not including natural mortalities, that may be removed from a marine mammal stock while allowing that stock to reach or maintain its optimum sustainable population (as described in NMFS' SARs). While no serious injury or mortality is anticipated or proposed to be authorized here, PBR and annual serious injury and mortality (M/SI) from anthropogenic sources are included here as gross indicators of the status of the species or stocks and other threats.

Marine mammal abundance estimates presented in this document represent the total number of individuals that make up a given stock or the total number estimated within a particular study or survey area. NMFS' stock abundance estimates for most species represent the total estimate of individuals within the geographic area, if known, that comprises that stock. For some species, this geographic area may extend beyond U.S. waters. All managed stocks in this region are assessed in NMFS' Pacific and Alaska SARs (90 FR 13344, March 21, 2025). All values presented in table 1 are the most recent available at the time of publication (including from the draft 2024 SARs) and are available online at: https://www.fisheries.noaa.gov/national/marine-mammal-protection/marine-mammal-stock-assessments.

Table 1—Species ᵃ With Estimated Take From the Specified Activities
Common name | Scientific name | Stock | ESA/ MMPA status; strategic (Y/N) ᵇ | Stock abundance (CV, Nmin, most recent abundance survey) ᶜ | PBR | Annual M/SI ᵈ
Order Carnivora—Pinnipedia
Family Otariidae (eared seals and sea lions):
California sea lion | Zalophus californianus | U.S. | -, -, N | 257,606 (n/a; 233,515; 2014) | 14,011 | ≥321
Steller sea lion | Eumetopias jubatus | Eastern U.S. | -, -, N | 36,308 ᵉ (n/a; 36,308; 2022) | 2,178 (U.S. only) | 92.3 (U.S. only)
Northern fur seal | Callorhinus ursinus | California | -/D; Y | 19,634 (n/a; 8,788; 2022) | 527 | ≥1.2
Family Phocidae (earless seals):
Harbor seal | Phoca vitulina | California | -, -, N | 30,968 (n/a; 27,348; 2012) | 1,641 | 43
Northern elephant seal | Mirounga angustirostris | California Breeding | -, -, N | 194,907 (n/a; 88,794; 2023) | 5,328 | 11.2
ᵃ Information on the classification of marine mammal species can be found on the web page for The Society for Marine Mammalogy's Committee on Taxonomy (https://marinemammalscience.org/science-and-publications/list-marine-mammal-species-subspecies/).
ᵇ Endangered Species Act (ESA) status: Endangered (E), Threatened (T)/MMPA status: Depleted (D). A dash (-) indicates that the species is not listed under the ESA or designated as depleted under the MMPA. Under the MMPA, a strategic stock is one for which the level of direct human-caused mortality exceeds PBR or which is determined to be declining and likely to be listed under the ESA within the foreseeable future. Any species or stock listed under the ESA is automatically designated under the MMPA as depleted and as a strategic stock.
ᶜ NMFS marine mammal stock assessment reports online at: https://www.fisheries.noaa.gov/national/marine-mammal-protection/marine-mammal-stock-assessment-reports-region. CV is coefficient of variation; Nmin is the minimum estimate of stock abundance.
ᵈ These values, found in NMFS's SARs, represent annual levels of human-caused mortality plus serious injury from all sources combined (commercial fisheries, ship strike). Annual M/SI often cannot be determined precisely and is in some cases presented as a minimum value or range. A CV associated with estimated mortality due to commercial fisheries is presented in some cases.
ᵉ Nest is best estimate of counts, which have not been corrected for animals at sea during abundance surveys.

As indicated above, all five species (with five managed stocks) in table 1 temporally and spatially co-occur with the activity to the degree that take is reasonably likely to occur. While Guadalupe fur seals (Arctocephalus townsendi) have been reported in the area, their occurrence is considered extremely rare in that the temporal and/or spatial occurrence of these species is such that take is not expected to occur, and they are not discussed further beyond the explanation provided here. Additionally, California (southern) sea otters (Enhydra lutris nereis) may be found in the Greater Farallones National Marine Sanctuary (see https://farallones.org/sanctuary-wildlife/marine-mammals/), and possibly nearshore to the South Farallon Island. However, this species is managed by the U.S. Fish and Wildlife Service (see https://www.fws.gov/species/southern-sea-otter-enhydra-lutris-nereis) and therefore not discussed further in this document.

For more details on the species that are likely to occur near the project area and may be taken by the USFWS Refuge's proposed activities, see the USFWS Refuge's IHA application, the SARs, and NMFS' website.

California Sea Lions

California sea lion breeding areas are on islands located in southern California, in western Baja California, Mexico, and the Gulf of California. Rookery sites in southern California are limited to the San Miguel Islands and the southerly Channel Islands of San Nicolas, Santa Barbara, and San Clemente (Carretta et al., 2017). Males establish breeding territories during May through July on both land and in the water. Females come ashore in mid-May and June where they give birth to a single pup approximately four to five days after arrival and will nurse pups for about a week before going on their first feeding trip. Postpartum females will alternate feeding trips with nursing bouts until the pup is weaned between four and ten months of age (Melin et al., 2000).

Adult and juvenile males will migrate as far north as British Columbia, Canada while females and pups remain in southern California waters in the non-breeding season. In warm water (El Niño) years, some females are found as far north as Washington and Oregon, presumably following prey. On the Farallon Islands, California sea lions haul out in many intertidal areas year round, fluctuating from several hundred to several thousand animals.

Elevated numbers of strandings of California sea lion pups occurred in Southern California beginning in January 2013, and NMFS declared an Unusual Mortality Event (UME). The UME was confined to pup and yearling California sea lions, many of which were emaciated, dehydrated, and underweight for their age. A change in the availability of sea lion prey, especially sardines, a high value food source for nursing mothers, was a likely contributor to the large number of strandings. Sardine spawning grounds shifted further offshore in 2012 and 2013, and, while other prey were available (market squid and rockfish), these may not have provided adequate nutrition in the milk of sea lion mothers supporting pups, or for newly-weaned pups foraging on their own. Although the pups showed signs of some viruses and infections, findings indicated that this event was not caused by disease, but rather by the lack of high quality, close-by food sources for nursing mothers. Current evidence does not indicate that this UME was caused by a single infectious agent, though a variety of disease-causing bacteria and viruses were found in samples from sea lion pups. Investigating and identifying the cause of this UME was a true public-private effort with many collaborators. The investigative team examined multiple potential explanations for the high numbers of malnourished California sea lion pups observed on the island rookeries and stranded on the mainland in 2013. Per the NMFS website, “the UME was attributed to malnutrition in juvenile sea lions due to ecological factors causing prey shifts. These prey shifts were most likely driven by unusual oceanographic conditions at the time due to the “Warm Water Blob” and El Niño.” The UME was closed in 2016. For more information, see https://www.fisheries.noaa.gov/national/marine-life-distress/2013-2017-california-sea-lion-unusual-mortality-event-california.

Harbor Seals

Pacific harbor seals inhabit near-shore coastal and estuarine areas from Baja California, Mexico, to the Pribilof Islands in Alaska. They are divided into two subspecies: P. v. stejnegeri in the western North Pacific, near Japan, and P. v. richardii in the northeast Pacific Ocean. The latter subspecies occurs along the California coast. The California stock of harbor seals ranges from Mexico to the Oregon-California border. In California, 400 to 600 harbor seal haul-out sites are widely distributed along the mainland and offshore islands, and include rocky shores, beaches and intertidal sandbars (Hanan, 1996; Lowry et al., 2008; Carretta et al., 2024).

Harbor seals mate at sea, and females give birth during the spring and summer, although the pupping season varies with latitude. Pups are nursed for an average of 24 days and are ready to swim minutes after being born. Harbor seal pupping takes place at many locations, and rookery size varies from a few pups to many hundreds of pups. Pupping generally occurs between March and June, and molting occurs between May and July.

On the Farallon Islands, approximately 40 to 120 Pacific harbor seals haul out in the intertidal areas (Point Blue, unpublished data).

Northern Elephant Seals

Northern elephant seals range in the eastern and central North Pacific Ocean, from as far north as Alaska to as far south as Mexico. Northern elephant seals spend much of the year, generally about nine months, in the ocean. They are usually underwater, diving to depths of about 1,000 to 2,500 ft (330 to 800 m) for 20- to 30-minute intervals with only short breaks at the surface. They are rarely seen out at sea for this reason. While on land, they prefer sandy beaches.

The northern elephant seal breeding population is distributed from central Baja California, Mexico to the Point Reyes Peninsula in northern California. Along this coastline, there are 13 major breeding colonies. Northern elephant seals breed and give birth primarily on offshore islands (Stewart et al., 1994), from December to March (Stewart and Huber, 1993). Males feed near the eastern Aleutian Islands and in the Gulf of Alaska, and females feed farther south, south of 45° N (Stewart and Huber, 1993; Le Boeuf et al., 1993).

In mid-December, adult males begin arriving at rookeries, closely followed by pregnant females on the verge of giving birth. Females give birth to a single pup, generally in late December or January (Le Boeuf and Laws, 1994) and nurse their pups for approximately four weeks (Reiter et al., 1991). Upon pup weaning, females mate with an adult male and then depart the islands. The last adult breeders depart the islands in mid-March. The spring peak of elephant seals on the rookery occurs in April, when females and immature seals (approximately one to four years old) arrive at the colony to molt (a one-month process) (USFWS, 2013). The year's new pups remain on the island throughout both of these peaks, generally leaving by the end of April (USFWS, 2013). The lowest numbers of elephant seals present at rookeries occurs during June, July, and August, when sub-adult and adult males molt. Another peak number of young seals returns to the rookery for a haul-out period in October, and at that time, some individuals undergo partial molt (Le Boeuf and Laws, 1994).

Northern elephant seals are present on the islands and in the waters surrounding the South Farallones year-round for either breeding or molting; however, they are more abundant during breeding and peak molting seasons (Le Boeuf and Laws, 1994; Sydeman and Allen, 1999). Northern elephant seals began recolonizing the South Farallon Islands in the early 1970s (Stewart et al., 1994) at which time the colony grew rapidly. Point Blue's average monthly counts of elephant seals at the South Farallon Islands from 2000 to 2009 ranged from 20 individuals in July to nearly 500 individuals in November (USFWS, 2013).

Steller Sea Lions

Steller sea lions consist of two distinct population segments (DPSs): The western and eastern DPSs divided at 144° W longitude (Cape Suckling, Alaska). The western segment of Steller sea lions inhabits central and western Gulf of Alaska, Aleutian Islands, as well as coastal waters, and breed in Asia (e.g., Japan and Russia) (Young et al., 2024). The eastern DPS includes animals born east of Cape Suckling, AK (144° W), and includes sea lions living in southeast Alaska, British Columbia, Washington, Oregon, and California (Young et al., 2024).

Despite the wide-ranging movements of juveniles and adult males in particular, exchange between rookeries by breeding adult females and males (other than between adjoining rookeries) appears low, although males have a higher tendency to disperse than females (National Marine Mammal Laboratory, 1995; Trujillo et al., 2004; Hoffman et al., 2006). While historically breeding at rookeries located in Southeast Alaska, British Columbia (Canada), Oregon, and California, a new rookery has been established on the outer Washington coast at the Carroll Island and Sea Lion Rock complex (Stocking and Wiles, 2021). This northward shift in the overall breeding distribution has occurred, with a contraction of the range in southern California and new rookeries established in southeastern Alaska (Hastings et al., 2017).

An estimated 50 to 150 Steller sea lions are located along the Farallon Islands (Point Blue, unpublished data). Overall, counts of non-pups at trend sites in California and Oregon have been relatively stable or increasing slowly since the 1980s (Muto et al., 2017). The South Farallon Island is one of two breeding colonies at the southern end of the Steller sea lion's range.

Northern Fur Seals

The northern fur seal is endemic to the North Pacific Ocean and Bering Sea. Breeding rookeries extend from the Sakhalin Island in the Sea of Okhotsk, Commander Islands, Pribilof, and Aleutian Islands in the Bering Sea, and the Farallon and San Miguel Islands off California (Gelatt and Gentry, 2018). Two stocks are recognized in U.S. waters: the Eastern North Pacific and the California stocks. The Eastern North Pacific stock ranges from southern California during winter to the Pribilof Islands and Bogoslof Island in the Bering Sea during summer (Muto et al., 2018). The California stock originated with immigrants from the Pribilof Islands and Russian populations that recolonized San Miguel Island during the late 1950s or early 1960s after northern fur seals were extirpated from California in the 1700s and 1800s (NMFS, 2025). Most northern fur seals at Point Blue research sites are expected to be from the California stock, though some may be from the Eastern North Pacific stock, as adult females and pups from the Pribilof Islands move through the Aleutian Islands into waters off Oregon and California (Muto et al., 2019).

The northern fur seal spends a significant amount of its time at sea, typically in areas of upwelling along the continental slopes, in sea valleys and submarine canyons and over seamounts where it undertakes opportunistic foraging activities (Kajimura, 1981). The remainder of its life is spent on or near rookery islands or haul-outs. While at sea, northern fur seals usually occur singly or in pairs, although larger groups can form in waters rich with prey (Antonelis and Fiscus, 1980; Kajimura, 1981). Northern fur seals dive to relatively shallow depths to feed: 100 to 200 m (328.1 to 656.2 ft) for females, and <400 m (<1,313.34 ft) for males (Geobel et al., 1991; Sterling and Ream, 2004). Tagged adult female fur seals were shown to remain within 200 km (124.3 mi) of the shelf break (Pelland et al., 2014).

Northern fur seals likely numbered in excess of 100,000 animals at the Farallon Islands before being locally extirpated by sealers in the 1800's (Pyle et al., 2001). After more than a 150-year absence, northern fur seals recolonized the Farallon Islands in the 1970's and the first confirmed pup was born in 1996 (Pyle et al., 2001). The Farallon Islands continue to be a breeding site for northern fur seals, with over 1,000 pups born each season (Point Blue, unpublished data). Fur seals in the Farallon Islands typically begin pupping in mid-July with peak population and pup production in late August to early September. A study by Lee et al. (2018) found that three colonies of northern fur seals (i.e., South Farallon, San Miguel, and Bogoslof) are all experiencing population growth at levels of 34 percent, 45 percent, and 59 percent, respectively, but were also all growing at rates determined to be the fastest for fur seals worldwide.

Potential Effects of Specified Activities on Marine Mammals and Their Habitat

This section provides a discussion of the ways in which components of the specified activity may impact marine mammals and their habitat. The Estimated Take of Marine Mammals section later in this document includes a quantitative analysis of the number of individuals that are expected to be taken by this activity. The Negligible Impact Analysis and Determination section considers the content of this section, the Estimated Take of Marine Mammals section, and the Proposed Mitigation section, to draw conclusions regarding the likely impacts of these activities on the reproductive success or survivorship of individuals and whether those impacts are reasonably expected to, or reasonably likely to, adversely affect the species or stock through effects on annual rates of recruitment or survival.

Presence of Humans

Visual and acoustic stimuli generated by the appearance of field personnel and motorboat/helicopter operations may have the potential to cause Level B harassment of pinnipeds hauled out on the South Farallon Islands. This section includes a summary and discussion of the ways that the types of stressors associated with the specified activity (e.g., personnel presence and motorboats/helicopters) have been observed to impact marine mammals. This discussion may also include reactions that we consider to rise to the level of a take and those that we do not consider to rise to the level of a take. This section provides background information on potential effects of these activities. For a discussion of the manner in which the mitigation measures will be implemented, and how the mitigation measures will shape the anticipated impacts from this specific activity, see the Proposed Mitigation section below.

Reactions to human presence, if any, depend on species, state of maturity, experience, current activity, reproductive state, time of day, and many other factors (Richardson et al., 1995; Southall et al., 2007; Weilgart 2007). These behavioral reactions from marine mammals are often shown as: changing durations of surfacing and dives, number of blows per surfacing, or moving direction and/or speed; reduced/increased vocal activities; changing/cessation of certain behavioral activities (such as socializing or feeding); visible startle responses or aggressive behavior; avoidance of areas; and/or flight responses (e.g., pinnipeds flushing into the water from haul-outs or rookeries). If a marine mammal does react briefly to human presence by changing its behavior or moving a small distance, the impacts of the change are unlikely to be significant to the individual, let alone the stock or population. However, if visual stimuli from human presence displaces marine mammals from an important feeding or breeding area for a prolonged period, impacts on individuals and populations could be significant (e.g., Lusseau and Bejder 2007; Weilgart, 2007). Numerous studies have shown that human activity can flush harbor seals off haul-out sites (Allen et al., 1985; Suryan and Harvey, 1999; Ruiz-Mar et al., 2022; Bankhead et al., 2023). The Hawaiian monk seal (Neomonachus schauinslandi) has been shown to avoid beaches that have been disturbed often by humans (Kenyon, 1972; Gerrodette and Gilmartin, 1990). In one case, human disturbance appeared to cause Steller sea lions to desert a breeding area at Northeast Point on St. Paul Island, Alaska (Kenyon, 1962), a behavior demonstrated at other locations as well (Kucey, 2005; Chayahara et al., 2024).

The appearance of field personnel may have the potential to cause Level B harassment of any pinnipeds hauled out at research sites. Disturbance may result in reactions ranging from an animal simply becoming alert to the presence of field personnel (e.g., turning the head, assuming a more upright posture) to flushing from the haul-out site into the water. NMFS does not consider the lesser reactions to constitute behavioral harassment, or Level B harassment takes, but rather assumes that pinnipeds that flee some distance or change the speed or direction of their movement in response to the presence of field personnel are behaviorally harassed, and thus subject to the taking by Level B harassment. Animals that respond to the presence of field personnel by becoming alert, but do not move or change the nature of locomotion as described, are not considered to have been subject to behavioral harassment.

Use of Motorboats and Helicopters

The USFWS Refuge has indicated that they may require the use of small waterborne vessels (i.e., small motorboats and sailboats) to deliver both personnel and supplies to and from the South Farallon Islands. Previous studies have been performed where the results demonstrate that pinnipeds generally return to their sites and do not permanently abandon haul-out sites after exposure to motorboats (discussed further below for Henry and Hammil (2001) and Johnson and Acevedo-Gutierrez (2007)).

In 1997, Henry and Hammil (2001) conducted a study to measure the impacts of small boats (i.e., kayaks, canoes, motorboats and sailboats) on harbor seal haul-out behavior in Metis Bay, Quebec, Canada. During that study, the authors noted that the most frequent disturbances (n=73) were caused by lower speed, lingering kayaks, and canoes (33.3 percent) as opposed to motorboats (27.8 percent) conducting high-speed passes. The seal's flight reactions could be linked to a surprise factor by kayaks and canoes, which approach slowly, quietly, and low on the water making them look like predators. However, the authors note that, once the animals were disturbed, there did not appear to be any significant lingering effect on the recovery of numbers to their pre-disturbance levels. In conclusion, the study showed that boat traffic at current levels had only a temporary effect on the haul-out behavior of harbor seals in the Metis Bay area.

In 2004, Acevedo-Gutierrez and Johnson (2007) evaluated the efficacy of buffer zones for watercraft around harbor seal haul-out sites on Yellow Island, Washington. The authors estimated the minimum distance between the vessels and the haul-out sites, categorized the vessel types, and evaluated seal responses to the disturbances. During the course of the seven-weekend study, the authors recorded 14 human-related disturbances that were associated with stopped powerboats and kayaks. During these events, hauled out seals became noticeably active and moved into the water. The flushing occurred when stopped kayaks and powerboats were at distances as far as 453 and 1,217 ft (138 and 371 m) away, respectively. The authors note that the seals were unaffected by passing powerboats, even those approaching as close as 128 ft (39 m), possibly indicating that the animals had become tolerant of the brief presence of the vessels and ignored them. The authors reported that, on average, the seals quickly recovered from the disturbances and returned to the haul-out site in less than or equal to 60 minutes. Seal numbers did not return to pre-disturbance levels within 180 minutes of the disturbance less than one quarter of the time observed. The study concluded that the return of seal numbers to pre-disturbance levels and the relatively regular seasonal cycle in abundance throughout the area counter the idea that disturbances from powerboats may result in site abandonment (Johnson and Acevedo-Gutierrez, 2007).

The potential for striking marine mammals is a concern with vessel traffic. Typically, the reasons for vessel strikes are fast transit speeds, lack of maneuverability, or not seeing the animal because the boat is so large. USFWS Refuge's staff and field personnel will access areas at slow transit speeds in small boats that are easily maneuverable, minimizing any chance of any accidental strikes.

Related to helicopters, Efoymson et al. (2001) noted that the key stressor for low-altitude overflights of military aircraft is primarily due to sound, however the visual and physical (i.e., the aircraft itself) stimuli could also act as a stressors. Animals (including pinnipeds) have previously demonstrated mixed reactions, likely driven by importance of habitat and site use, habitation, and proximity to the helicopter/aircraft (either due to the visual and/or acoustic stimulus) (Anderson, 2007). At Phoca Reef on San Nicolas Island, California, harbor seals displayed no behavioral reaction to the presence of a helicopter within audible range (U.S. Navy, 2020). Richardson et al. (1995) documents several behavioral reactions of marine mammals to aircraft (see section 9.2). Generally, the findings indicate that aircraft overflights traversing at low altitudes can cause behavioral reactions (i.e., alert, startle, rapid movement responses) in harbor seals that are hauled out, causing them to escape to the water. Similar behaviors have been noted for ringed seals (Phoca hispida) and bearded seals (Erignathus barbatus) (although with somewhat of mixed responses where not all animals went into the water), northern sea lions, and northern fur seals (Richardson et al., 1995, Born et al., 1998). Northern elephant seals and California sea lions on San Miguel Island in California were noted as less responsive than harbor seals. Highly dependent on the hovering altitude of the helicopter, behaviors ranging from alerting reactions to head raising to flushing to the water were elicited from Northern elephant seals and California sea lions (Richardson et al., 1995). These sudden movements and panicked responses have been known to lead to death/injury by trampling or separation of pups from mothers. In Richardson et al. (1995), helicopters are acknowledged as causing more disturbance than fixed-wing aircraft, likely given the lower altitudes the helicopters can travel and the sound emitting from the rotor.

Avoidance

Avoidance is the displacement of an individual from an area or migration path as a result of the presence of a sound or other stressors, and is one of the most obvious manifestations of disturbance in marine mammals (Richardson et al., 1995). Avoidance is qualitatively different from the flight response, but also differs in the magnitude of the response (i.e., directed movement, rate of travel, etc.). Often avoidance is temporary, and animals return to the area once the noise has ceased. Acute avoidance responses have been observed in captive porpoises and pinnipeds exposed to a number of different sound sources (Kastelein et al., 2001; Finneran et al., 2003; Kastelein et al., 2006a; Kastelein et al., 2006b; Kastelein et al., 2015a; Kastelein et al., 2015b; Kastelein et al., 2018). Short-term avoidance of seismic surveys, low frequency emissions, and acoustic deterrents have also been noted in wild populations of odontocetes (Bowles et al., 1994; Goold, 1996; Goold and Fish, 1998; Morton and Symonds, 2002; Hiley et al., 2021) and to some extent in mysticetes (Malme et al., 1984; McCauley et al., 2000; Gailey et al., 2007). Longer-term displacement is possible, however, which may lead to changes in abundance or distribution patterns of the affected species in the affected region if habituation to the presence of the sound does not occur (e.g., Blackwell et al., 2004; Bejder et al., 2006; Teilmann et al., 2006). While NMFS acknowledges that most research and literature cited here is related to cetaceans, who are not expected to be harassed or taken by USFWS Refuge's specified activities, we include these to provide context as pinnipeds behaviorally react in a similar manner when expected to an external stimulus (e.g., human presence, noise, etc.) when onshore or in the water.

While NMFS expects that hauled out pinnipeds may avoid the USFWS Refuge field personnel and/or motorboats/helicopter, we do not expect that these effects will be more than temporary. The pinnipeds on the South Farallon Islands have high site fidelity; any external stimuli would be fleeting, and easily avoidable, meaning that the pinnipeds, if performing avoidance behaviors during activities, would be able to resume their original behaviors once the stimulus has ended.

Flight Response

A flight response is a dramatic change in normal movement to a directed and rapid movement away from the perceived location of a sound source. The flight response differs from other avoidance responses in the intensity of the response (e.g., directed movement, rate of travel). Relatively little information on flight responses of marine mammals to anthropogenic signals exist, although observations of flight responses to the presence of predators have occurred (Connor and Heithaus, 1996). The result of a flight response could range from brief, temporary exertion and displacement from the area where the signal provokes flight to, in extreme cases, marine mammal strandings (Evans and England, 2001). There are limited data on flight response for marine mammals in water; however, there are examples of this response in species on land. For instance, the probability of flight responses in Dall's sheep (Ovis dalli dalli) (Frid, 2003), hauled out ringed seals (Phoca hispida) (Born et al., 1999), Pacific brant (Branta bernicla nigricans), and Canada geese (B. canadensis) increased as a helicopter or fixed-wing aircraft more directly approached groups of these animals (Ward et al., 1999). However, it should be noted that response to a perceived predator does not necessarily invoke flight (Ford and Reeves, 2008), and whether individuals are solitary or in groups may influence the response.

Behavioral disturbance can also impact marine mammals in more subtle ways. Increased vigilance may result in costs related to diversion of focus and attention (i.e., when a response consists of increased vigilance, it may come at the cost of decreased attention to other critical behaviors such as foraging or resting). These effects have generally not been observed in marine mammals, but studies involving fish and terrestrial animals have shown that increased vigilance may substantially reduce feeding rates and efficiency (e.g., Beauchamp and Livoreil, 1997; Fritz et al., 2002; Purser and Radford, 2011). In addition, chronic disturbance can cause population declines through reduction of fitness (e.g., decline in body condition) and subsequent reduction in reproductive success, survival, or both (e.g., Harrington and Veitch, 1992; Daan et al., 1996; Bradshaw et al., 1998).

Many animals perform vital functions, such as feeding, resting, traveling, and socializing, on a diel cycle (24-hour cycle). Disruption of such functions resulting from reactions to stressors such as sound exposure are more likely to be significant if they last more than one diel cycle or recur on subsequent days (Southall et al., 2007). Consequently, a behavioral response lasting less than one day and not recurring on subsequent days is not considered particularly severe unless it could directly affect reproduction or survival (Southall et al., 2007). Note that there is a difference between multi-day substantive behavioral reactions and multi-day anthropogenic activities. For example, just because an activity lasts for multiple days does not necessarily mean that individual animals are either exposed to activity-related stressors for multiple days or, further, exposed in a manner resulting in sustained multi-day substantive behavioral responses.

There are other ways in which disturbance, as described previously, could result in more than Level B harassment of marine mammals. They are most likely to be consequences of stampeding (which is typically a response to startle and/or avoidance behaviors), a potentially dangerous occurrence in which large numbers of animals succumb to mass panic and rush away from a stimulus. These situations are: (1) pinnipeds falling when entering the water at high-relief locations; (2) extended separation of mothers and pups; and (3) crushing of pups by larger animals during a stampede. However, NMFS does not expect any of these scenarios to occur at the South Farallon Islands. As stated, there is the risk of injury if animals stampede towards shorelines with precipitous relief (e.g., cliffs); however, field personnel will take precautions, such as moving slowly and staying close to the ground, to ensure that any flushes do not result in a stampede of pinnipeds heading to the sea. Per previous actions with Point Blue, another organization that performs research activities on the South Farallon Islands, reports that stampedes have been extremely rare at their survey locations in the past. Furthermore, no research activities would occur at or near pinniped rookeries. Breeding animals are concentrated in areas where field personnel would not visit, so NMFS does not expect mother and pup separation or crushing of pups during flushing. If pups should be present at any USFWS Refuge research sites, field personnel will avoid visiting that particular site.

Habituation

Habituation can occur when an animal's response to a stimulus wanes with repeated exposure, usually in the absence of unpleasant associated events (Wartzok et al., 2003). Animals are most likely to habituate to sounds that are predictable and unvarying. It is important to note that habituation is appropriately considered as a “progressive reduction in response to stimuli that are perceived as neither aversive nor beneficial,” rather than as, more generally, moderation in response to human disturbance (Bejder et al., 2009). The opposite process is sensitization, when an unpleasant experience leads to subsequent responses, often in the form of avoidance, at a lower level of exposure. As noted, behavioral state may affect the type of response. For example, animals that are resting may show greater behavioral change in response to disturbing sound levels than animals that are highly motivated to remain in an area for feeding (Richardson et al., 1995; NRC, 2003; Wartzok et al., 2003). Controlled experiments with captive marine mammals have showed pronounced behavioral reactions, including avoidance of loud sound sources (Ridgway et al., 1997; Finneran et al., 2003). Observed responses of wild marine mammals to loud impulsive sound sources (typically seismic airguns or acoustic harassment devices) have been varied but often consist of avoidance behavior or other behavioral changes suggesting discomfort (Morton and Symonds, 2002; see also Richardson et al., 1995; Nowacek et al., 2007).

Stress Response

An animal's perception of a threat may be sufficient to trigger stress responses consisting of some combination of behavioral responses, autonomic nervous system responses, neuroendocrine responses, or immune responses (e.g., Seyle, 1950; Moberg, 2000). In many cases, an animal's first and sometimes most economical (in terms of energetic costs) response is behavioral avoidance of the potential stressor. Autonomic nervous system responses to stress typically involve changes in heart rate, blood pressure, and gastrointestinal activity. These responses have a relatively short duration and may or may not have a significant long-term effect on an animal's fitness.

Neuroendocrine stress responses often involve the hypothalamus-pituitary-adrenal system. Virtually all neuroendocrine functions that are affected by stress—including immune competence, reproduction, metabolism, and behavior—are regulated by pituitary hormones. Stress-induced changes in the secretion of pituitary hormones have been implicated in failed reproduction, altered metabolism, reduced immune competence, and behavioral disturbance (e.g., Moberg, 1987; Blecha, 2000). Increases in the circulation of glucocorticoids are also equated with stress (Romano et al., 2004).

The primary distinction between stress (which is adaptive and does not normally place an animal at risk) and “distress” is the cost of the response. During a stress response, an animal uses glycogen stores that can be quickly replenished once the stress is alleviated. In such circumstances, the cost of the stress response would not pose serious fitness consequences. However, when an animal does not have sufficient energy reserves to satisfy the energetic costs of a stress response, energy resources must be diverted from other functions. This state of distress will last until the animal replenishes its energetic reserves sufficient to restore normal function.

Relationships between these physiological mechanisms, animal behavior, and the costs of stress responses are well studied through controlled experiments and for both laboratory and free-ranging animals (e.g., Holberton et al., 1996; Hood et al., 1998; Jessop et al., 2003; Krausman et al., 2004; Lankford et al., 2005). Stress responses due to exposure to anthropogenic sounds or other stressors and their effects on marine mammals have also been reviewed (Fair and Becker 2000; Romano et al., 2002b) and, more rarely, studied in wild populations (e.g., Romano et al., 2002a). For example, Rolland et al. (2012) found that noise reduction from reduced ship traffic in the Bay of Fundy was associated with decreased stress in North Atlantic right whales. These and other studies lead to a reasonable expectation that some marine mammals will experience physiological stress responses upon exposure to acoustic stressors and that it is possible that some of these would be classified as “distress.” However distress is an unlikely result of these projects based on observations of marine mammals during previous, similar research and monitoring projects.

Marine Mammal Habitat Effects

There are no habitat modifications associated with the proposed activity other than the presence of USFWS Refuge field personnel to perform the proposed activities and to monitor animals. No substantial construction is anticipated to occur for this proposed project, only activities that rise to the level of maintenance, removal, and installation, which are all expected to be over a small footprint when compared to the entire size of the available habitat on the South Farallon Islands. While field personnel may be somewhat residential in some areas during the work necessary for the proposed activities, the field personnel will be traveling to different research sites indicating that their presence in any one specific area is most likely temporary. Thus, NMFS does not expect that the proposed activity would have any effects on marine mammal habitat and NMFS expects that there will be no long- or short-term physical impacts to pinniped habitat on the South Farallon Islands.

Proposed Activities on Potential Foraging Habitat

Marine mammal prey (e.g., fish) varies by species, season, and location. However, as all of the USFWS Refuge's proposed activities are occurring onshore and the prey species for pinnipeds are located in the ocean, NMFS does not expect the proposed activities to affect the habitat, availability, or presence of prey for pinnipeds.

Estimated Take of Marine Mammals

This section provides an estimate of the number of incidental takes proposed for authorization through the IHA, which will inform NMFS' consideration of “small numbers,” the negligible impact determinations, and impacts on subsistence uses.

Harassment is the only type of take expected to result from these activities. Except with respect to certain activities not pertinent here, section 3(18) of the MMPA defines “harassment” as any act of pursuit, torment, or annoyance, which (i) has the potential to injure a marine mammal or marine mammal stock in the wild (Level A harassment); or (ii) has the potential to disturb a marine mammal or marine mammal stock in the wild by causing disruption of behavioral patterns, including, but not limited to, migration, breathing, nursing, breeding, feeding, or sheltering (Level B harassment).

Takes proposed for authorization would be by Level B harassment only, in the form of behavioral reactions for individual marine mammals resulting from exposure to field personnel and the operation of their equipment and associated noise. Based on the nature of the activity, Level A harassment is neither anticipated nor proposed to be authorized. As described previously, no serious injury or mortality is anticipated or proposed to be authorized for this activity. Below we describe how the proposed take numbers are estimated.

Marine Mammal Occurrence and Take Calculation and Estimation

Here we describe the proposed estimate of the take that is reasonably likely to occur and proposed for authorization.

The occurrence data are based upon the USFWS Refuge's unique expertise in this area and their local, collaborative work with other partners, such as Point Blue who work in the Farallon Islands (Point Blue Conservation Science, unpubl. data; G. McChesney, USFWS, pers. obs). NMFS further reviewed other nearby and recent actions when considering the proposed take numbers (i.e., the Point Blue Conservation Science's seabird research activities in central California (80 FR 10066, February 25, 2015; 81 FR 34978, June 1, 2016; 82 FR 31759, July 10, 2017; 83 FR 31372, July 5, 2018; 85 FR 9740, February 20, 2020; and 86 FR 27991, May 25, 2021). The USFWS Refuge's requested take authorization numbers were calculated based on the number of each species generally present on the islands (particularly near haul-outs, work areas, helicopter flight paths, and near boat landings) and frequency of the planned activities. USFWS Refuge has stated that the management and research activities are expected to affect all ages and sexes of pinnipeds, except very young pups because USFWS staff and contractors will not enter or approach breeding areas close enough to cause a disturbance to young pups or their mothers.

NMFS determined that USFWS Refuge's requests were generally reasonable. However, for two species (i.e., California sea lions and harbor seals), after reviewing the monitoring reports for previous actions, we propose to authorize higher numbers of takes than requested by USFWS Refuge. Specifically, USFWS Refuge has requested 20,000 and 200 takes by Level B harassment for California sea lions and harbor seals, respectively. NMFS proposes increasing the take of California sea lions to 40,000, given one of the monitoring reports for 86 FR 27991 (May 25, 2021) described 37,866 takes of this species. For harbor seals, NMFS proposed an increase to 300 individuals; given the monitoring report for 83 FR 31372 (July 5, 2018) described 204 takes. USFWS Refuge agreed with NMFS' proposed take increases for these two species and these values have been incorporated herein.

The results of this analysis can be found in table 2, where the number of takes that NMFS proposes for authorization are presented.

Table 2—Estimated Take ᵃ by Level B Harassment
Species (common name) | Stock | NMFS's stock abundance estimates (draft 2024 SARs) | Estimated takes by Level B harassment | Percent estimated to be taken
California sea lion | U.S | 257,606 | 40,000 | 15.33
Steller sea lion | Eastern U.S | 36,308 | 100 | 0.28
Northern fur seal | California | 19,634 | 300 | 1.53
Harbor seal | California | 30,968 | 300 | 0.97
Northern elephant seal | California breeding | 194,907 | 30 | 0.02
ᵃ These values take into account the number of individuals near haul-outs around helicopter flight paths and work areas where most incidental harassment is expected to occur (per Point Blue Conservation Science, unpublished data and Gerry McChesney, USFWS, personal observations).

Proposed Mitigation

In order to issue an IHA under section 101(a)(5)(D) of the MMPA, NMFS must set forth the permissible methods of taking pursuant to the activity, and other means of effecting the least practicable impact on the species or stock and its habitat, paying particular attention to rookeries, mating grounds, and areas of similar significance, and on the availability of the species or stock for taking for certain subsistence uses (latter not applicable for this action). NMFS regulations require applicants for incidental take authorizations to include information about the availability and feasibility (economic and technological) of equipment, methods, and manner of conducting the activity or other means of effecting the least practicable adverse impact upon the affected species or stocks, and their habitat (50 CFR 216.104(a)(11)).

In evaluating how mitigation may or may not be appropriate to ensure the least practicable adverse impact on species or stocks and their habitat, as well as subsistence uses where applicable, NMFS considers two primary factors:

(1) The manner in which, and the degree to which, the successful implementation of the measure(s) is expected to reduce impacts to marine mammals, marine mammal species or stocks, and their habitat. This considers the nature of the potential adverse impact being mitigated (likelihood, scope, range). It further considers the likelihood that the measure will be effective if implemented (probability of accomplishing the mitigating result if implemented as planned), the likelihood of effective implementation (probability implemented as planned); and

(2) The practicability of the measures for applicant implementation, which may consider such things as cost, and impact on operations.

The USFWS Refuge proposed to implement several mitigation measures to reduce potential takes, by Level B harassment, on pinnipeds. NMFS concurred with USFWS Refuge's proposed measures. These measures include:

• Limiting the proposed project activities during pinniped pupping seasons;

• Limiting all major construction activities to the fall and winter to avoid the most sensitive times of the year for marine mammals;

• Prohibiting the use of helicopters between March 15 and September 1 to avoid the breeding season for marine mammals (use would only be allowed from September 1 through March 15);

• Providing limits to the number of visitors, provide supervision of visitors, and prohibited access for visitors to avoid marine mammal haul-out and breeding areas;

• Requiring training over protocol for staff and visitors to avoid disturbing marine mammals. The training would consist of a presentation by USFWS staff regarding the description of the marine mammals, their habitat needs, an explanation of the status of these species and their protection under the MMPA, and a description of the measures being taken to reduce effects to these species;

• Maintaining a safe distance for field personnel from marine mammals and not approaching any marine mammal while conducting research, unless it is absolutely necessary to flush a marine mammal in order to continue conducting research (i.e., if a site cannot be accessed or sampled due to the presence of pinnipeds);

• Avoiding identified haul-out sides on the South Farallon Islands, to the extent practicable;

• Conduct seabird observations in an observation blind, shielded from the view of hauled-out pinnipeds where possible;

• Allowing helicopter operations only when the risk of injury to any marine mammal is low;

• Suspending operations if a dead or injured marine mammal is found near the project area and the death or injury of the animal could be attributable to USFWS Refuge activities. Any such takes will immediately be reported to the Office of Protected Resources (PR.ITP.MonitoringReports@noaa.gov and ITP.potlock@noaa.gov) and the West Coast Regional Stranding Coordinator (562-980-3264);

• Avoiding visits to sites when pups are present or when species for which authorization has not been granted are present; and

• Monitoring for offshore predators and not approach hauled out pinnipeds if predators are present.

Based on our evaluation of the applicant's proposed measures, as well as other measures considered by NMFS, NMFS has preliminarily determined that the proposed mitigation measures provide the means of effecting the least practicable impact on the affected species or stocks and their habitat, paying particular attention to rookeries, mating grounds, and areas of similar significance.

Proposed Monitoring and Reporting

In order to issue an IHA for an activity, section 101(a)(5)(D) of the MMPA states that NMFS must set forth requirements pertaining to the monitoring and reporting of such taking. The MMPA implementing regulations at 50 CFR 216.104(a)(13) indicate that requests for authorizations must include the suggested means of accomplishing the necessary monitoring and reporting that will result in increased knowledge of the species and of the level of taking or impacts on populations of marine mammals that are expected to be present while conducting the activities. Effective reporting is critical to both compliance, as well as ensuring that the most value is obtained from the required monitoring.

Monitoring and reporting requirements prescribed by NMFS should contribute to improved understanding of one or more of the following:

• Occurrence of marine mammal species or stocks in the area in which take is anticipated (e.g., presence, abundance, distribution, density);

• Nature, scope, or context of likely marine mammal exposure to potential stressors/impacts (individual or cumulative, acute or chronic), through better understanding of: (1) action or environment (e.g., source characterization, propagation, ambient noise); (2) affected species (e.g., life history, dive patterns); (3) co-occurrence of marine mammal species with the activity; or (4) biological or behavioral context of exposure (e.g., age, calving or feeding areas);

• Individual marine mammal responses (behavioral or physiological) to acoustic stressors (acute, chronic, or cumulative), other stressors, or cumulative impacts from multiple stressors;

• How anticipated responses to stressors impact either: (1) long-term fitness and survival of individual marine mammals; or (2) populations, species, or stocks;

• Effects on marine mammal habitat (e.g., marine mammal prey species, acoustic habitat, or other important physical components of marine mammal habitat); and,

• Mitigation and monitoring effectiveness.

The USFWS Refuge will contribute to the knowledge of pinnipeds on the South Farallon Island by noting observations of: (1) unusual behaviors, numbers, or distributions of pinnipeds, such that any potential follow-up research can be conducted by the appropriate personnel; (2) tag-bearing carcasses of pinnipeds, allowing transmittal of the information to appropriate agencies and personnel; and (3) rare or unusual species of marine mammals for agency follow-up.

Proposed monitoring requirements in relation to the USFWS Refuge's research activities will include observations made by the applicant. Information recorded will include species counts (with numbers of pups/juveniles) of animals present before approaching, numbers of observed disturbances (based on the scale below), and descriptions of the disturbance behaviors during the project activities, including location, date, and time of the event. For consistency, any reactions by pinnipeds to field personnel will be recorded according to a three-point scale, as shown in table 3. We specifically note that only observations of disturbance levels 2 and 3 would be recorded as takings. The lead biologist/project-lead in the field will serve as an observer to record the incidental take.

Table 3—Levels of Pinniped Behavioral Disturbance
Level | Type of response | Definition
0 | Observation | Observation by field personnel from a distance; no disturbance to pinniped.
1 | Alert | Seal head orientation or brief movement in response to disturbance, which may include turning head towards the disturbance, craning head and neck while holding the body rigid in a u-shaped position, changing from a lying to a sitting position, or brief movement of less than twice the animal's body length.
2 | Movement | Movements away from the source of disturbance, ranging from short withdrawals at least twice the animal's body length to longer retreats over the beach, or if already moving a change of direction of greater than 90 degrees.
3 | Flush | All retreats (flushes) to the water.
Note: Only Levels 2 and 3 would be recorded as takes by Level B harassment.

Furthermore, the following monitoring protocols for USFWS Refuge are proposed:

1. Record of date, time, and location (or closest point of ingress) of each visit to the research site;

2. Composition of the marine mammals sighted, such as species, gender, and life history stage (e.g., adult, sub-adult, pup);

3. Information on the numbers (by species) of marine mammals observed during the activities;

4. Estimated number of marine mammals (by species) that may have been harassed during the activities;

5. Behavioral responses or modifications of behaviors that may be attributed to the specific activities and a description of the specific activities occurring during that time (e.g., human approach, vessel approach, helicopter take-off/landing/flyover); and

6. Information on the weather, including the tidal state and horizontal visibility.

In addition, observations regarding the number and species of any marine mammals observed (either in the water or hauled out at, or adjacent to, a research site) are recorded as part of field observations during research activities. Information regarding physical and biological conditions pertaining to a site, as well as the date and time that research was conducted, will also be recorded. This information will be incorporated into a monitoring report (along with other information, as required below in the Reporting section) for NMFS and all raw data will be provided.

Reporting

The USFWS Refuge would be required to submit an annual draft summary report on all research activities and marine mammal monitoring results to NMFS within 90 days following the end of the project activities or 60 calendar days prior to the requested issuance of any subsequent IHA for similar activity at the same location, whichever comes first. The draft summary report would include an overall description of the research activities completed, a narrative regarding marine mammal sightings, and associated raw PSO data sheets (in electronic spreadsheet format). Specifically, the report must include:

• Dates and times (begin and end) of all marine mammal monitoring;

• Observer locations during marine mammal monitoring; and

• Environmental conditions during monitoring periods (at beginning and end of observer shift and whenever conditions change significantly), including Beaufort sea state and any other relevant weather conditions including cloud cover, fog, sun glare, and overall visibility to the horizon, and estimated observable distance.

Upon observation of a marine mammal, the following information must be reported:

• Name of the observer who sighted the animal(s) and observer location and activity at the time of the sighting;

• Time of the sighting;

• Identification of the animal(s) (e.g., genus/species, lowest possible taxonomic level, or unidentified), observer confidence in identification, and the composition of the group if there is a mix of species;

• Estimated number of animals (min/max/best estimate);

• Estimated number of animals by cohort (e.g., adults, juveniles, neonates, group composition, etc.);

• Animal's closest point of approach;

• Description of any marine mammal behavioral observations (e.g., observed behaviors such as feeding or traveling), including an assessment of behavioral responses thought to have resulted from the activity (e.g., no response or changes in behavioral state such as ceasing feeding, changing direction, flushing, etc.);

• Number of marine mammals detected, by species; and

• Detailed information about implementation of any mitigation, a description of specified actions that ensured, and resulting changes in behavior of the animal(s), if any.

If no comments are received from NMFS within 30 days after the submission of the draft summary report, the draft report would constitute the final report. If USFWS Refuge received comments from NMFS, a final summary report addressing NMFS' comments must be submitted within 30 days after receipt of comments.

Additionally, the USFWS Refuge would be required to undertake some situational reporting for the NMFS West Coast Regional Office (562-980-3230) for marked or tag-bearing pinnipeds or carcasses, or any unusual behaviors, distributions, or numbers of pinnipeds.

Reporting Injured or Dead Marine Mammals

If, at any time, the specified activities clearly causes the take of a marine mammal in a prohibited manner such as an injury (i.e., Level A harassment), serious injury, or mortality, the USFWS Refuge would immediately cease the specified activities and report the incident to the NMFS Office of Protected Resources (PR.ITP.MonitoringReports@noaa.gov and ITP.Potlock@noaa.gov) and the NMFS West Coast Regional Stranding Coordinator ((562) 980-3230). The report must include the following information:

1. Time and date of the incident;

2. Description of the incident;

3. Environmental conditions (e.g., wind speed and direction, Beaufort sea state, cloud cover, and visibility);

4. Description of all marine mammal observations in the last 24 hours preceding the incident;

5. Species identification or description of the animal(s) involved;

6. Fate of the animal(s); and

7. Photographs or video footage of the animal(s) (if the equipment is available).

Activities would not resume until NMFS is able to review the circumstances of the prohibited take. NMFS will work with the USFWS Refuge to determine what measures are necessary to minimize the likelihood of further prohibited take and ensure MMPA compliance. The USFWS Refuge may not resume the activities until notified by the NMFS Office of Protected Resources.

In the event that the USFWS Refuge discovers an injured or dead marine mammal and determines that the cause of the injury or death is unknown and the death is relatively recent (e.g., in less than a moderate state of decomposition), the USFWS Refuge would immediately report the incident to the Office of Protected Resources (PR.ITP.MonitoringReports@noaa.gov and ITP.potlock@noaa.gov) and the West Coast Regional Stranding Coordinator ((562) 980-3230). The report must include the same information identified in the paragraph above. Activities may continue while NMFS reviews the circumstances of the incident. NMFS will work with the USFWS Refuge to determine whether additional mitigation measures or modifications to the activities are appropriate.

In the event that an injured or dead marine mammal is discovered and it is determined that the injury or death is not associated with or related to the activities authorized in any issued IHA (e.g., previously wounded animal, carcass with moderate to advanced decomposition, or scavenger damage), the USFWS Refuge would report the incident to the NMFS Office of Protected Resources (PR.ITP.MonitoringReports@noaa.gov and ITP.potlock@noaa.gov) and the West Coast Regional Stranding Coordinator ((562) 980-3230) within 24 hours of the discovery. The USFWS Refuge would provide photographs, video footage (if available), or other documentation of the stranded animal sighting to NMFS and the Marine Mammal Stranding Network. Activities may continue while NMFS reviews the circumstances of the incident.

Negligible Impact Analysis and Determination

NMFS has defined negligible impact as an impact resulting from the specified activity that cannot be reasonably expected to, and is not reasonably likely to, adversely affect the species or stock through effects on annual rates of recruitment or survival (50 CFR 216.103). A negligible impact finding is based on the lack of likely adverse effects on annual rates of recruitment or survival (i.e., population-level effects). An estimate of the number of takes alone is not enough information on which to base an impact determination. In addition to considering estimates of the number of marine mammals that might be “taken” through harassment, NMFS considers other factors, such as the likely nature of any impacts or responses (e.g., intensity, duration), the context of any impacts or responses (e.g., critical reproductive time or location, foraging impacts affecting energetics), as well as effects on habitat, and the likely effectiveness of the mitigation. We also assess the number, intensity, and context of estimated takes by evaluating this information relative to population status. Consistent with the 1989 preamble for NMFS' implementing regulations (54 FR 40338, September 29, 1989), the impacts from other past and ongoing anthropogenic activities are incorporated into this analysis via their impacts on the baseline (e.g., as reflected in the regulatory status of the species, population size and growth rate where known, ongoing sources of human-caused mortality, or ambient noise levels).

To avoid repetition, the discussion of our analysis applies to all of the species listed in table 1, given that the anticipated effects of this activity on these different marine mammal stocks are expected to be similar. There is little information about the nature or severity of the impacts, or the size, status, or structure of any of these species or stocks that would lead to a different analysis for this activity.

For reasons stated previously in this document and based on the following factors, NMFS does not expect USFWS Refuge's proposed specified activities to cause long-term behavioral disturbance that would be expected to negatively impact an individual animal's fitness, or result in injury, serious injury, or mortality. Although USFWS Refuge's activities may disturb marine mammals, NMFS expects those impacts to occur to localized groups of animals at or near survey and activity sites. Behavioral disturbance is expected to be limited to short-term startle responses and localized behavioral changes due to the short duration (ranging from approximately 15 minutes for visits at most locations, up to 2 to 5 hours from April-August) of the research activities. All major construction work (specific to the facilities maintenance, repair, removal, and minor construction activities) would be limited to occur only from September 1 through March 15 to avoid disturbances to wildlife. Boat landings are expected to last approximately 1 to 3 hours and would be localized to one of two specific landing areas (i.e., East Landing and North Landing). During seasons where the weather is less than optimal and safe for boat landings (much of the fall-winter period, September 1 through March 15), helicopters would be used to transport equipment and personnel, with a prohibition on helicopter use the rest of the year to avoid disturbance to sensitive wildlife and breeding/pupping activities. Minor and brief responses including short-duration startle reactions, are not likely to constitute disruption of behavioral patterns, such as migration, nursing, breeding, feeding, or sheltering. These short duration disturbances (in many cases animals are expected to return within a short period of time) will generally allow marine mammals to reoccupy haul-outs relatively quickly; therefore, these disturbances would not be anticipated to result in long-term disruption of important behaviors. No surveys will occur at or near rookeries as field personnel will have limited access to the South Farallon Islands during the pupping season and will not approach sites should pups be observed. Furthermore, breeding animals tend to be concentrated in areas that field personnel are not scheduled to visit. Therefore, NMFS does not expect mother and pup separation or crushing of pups during stampedes.

Regarding effects to animals on the South Farallon Islands, field personnel will delay ingress into the landing areas, where possible, until after the pinnipeds enter the water and will cautiously operate vessels at slow speeds. Some limited effects from helicopters have been known to occur (see the Effects section), but any behavioral effects are expected to be temporary and fleeting, given the helicopter would be primarily transiting, landing, or taking off. To reduce effects, USFWS Refuge would only allow helicopter operations from September 1 through March 15; all other times of the year helicopter use would be prohibited, which would avoid the breeding season for marine mammals on the South Farallon Islands. Limited access would be permitted to pinniped pupping areas so mother-pup separation is not expected to occur. Lastly, the helicopter flight path has been developed to minimize disturbances to wildlife as most pinniped habitat (with the exception of Mussel Flat) located away from the flight path.

In summary and as described above, the following factors primarily support our preliminary determination that the impacts resulting from this activity are not expected to adversely affect any of the species or stocks through effects on annual rates of recruitment or survival:

• No serious injury or mortality is anticipated or authorized;

• No take by Level A harassment is expected, or is proposed for authorization;

• The intensity of anticipated takes by Level B harassment is relatively low for all stocks. Level B harassment would be in the form of behavioral disturbance, resulting in temporary avoidance of the project areas and locations where USFWS Refuge staff and contractors are working;

• Given pinnipeds are carnivores, no prey species (i.e., fish) would be impacted by the proposed activities or would only be temporarily impacted for a short duration during in-water activities (i.e., small motorboat and sailboat use). Therefore, any associated impacts on marine mammal foraging is not expected to result in significant or long-term consequences for individuals, or to accrue to adverse impacts on their populations;

• No impacts to pinniped habitat are anticipated; and

• Only limited behavioral disturbance in the form of short-duration startle reactions is expected, and mitigation requirements employed by field personnel (e.g., moving slowly, hushed voices) should further decrease disturbance levels.

Based on the analysis contained herein of the likely effects of the specified activity on marine mammals and their habitat, and taking into consideration the implementation of the proposed monitoring and mitigation measures, NMFS preliminarily finds that the total marine mammal take from the proposed activity will have a negligible impact on all affected marine mammal species or stocks.

Small Numbers

As noted previously, only take of small numbers of marine mammals may be authorized under sections 101(a)(5)(A) and (D) of the MMPA for specified activities other than military readiness activities. The MMPA does not define small numbers and so, in practice, where estimated numbers are available, NMFS compares the number of individuals taken to the most appropriate estimation of abundance of the relevant species or stock in our determination of whether an authorization is limited to small numbers of marine mammals. When the predicted number of individuals to be taken is fewer than one-third of the species or stock abundance, the take is considered to be of small numbers (see 86 FR 5322, January 19, 2021). Additionally, other qualitative factors may be considered in the analysis, such as the temporal or spatial scale of the activities.

The instances of take NMFS has proposed to authorize is below one-third of the estimate stock abundance for all species. The number of animals proposed for authorization that could be taken from these stocks would be considered small relative to the relevant stocks' abundances even if each estimate taking occurred to a new individual. While there is a potential for some individuals to be taken multiple times per day, USFWS Refuge staff and contractors would count them as separate takes if they cannot be individually identified.

Based on the analysis contained herein of the proposed activity (including the proposed mitigation and monitoring measures) and the anticipated take of marine mammals, NMFS preliminarily finds that small numbers of marine mammals would be taken relative to the population size of the affected species or stocks.

Unmitigable Adverse Impact Analysis and Determination

There are no relevant subsistence uses of the affected marine mammal stocks or species implicated by this action. Therefore, NMFS has determined that the total taking of affected species or stocks would not have an unmitigable adverse impact on the availability of such species or stocks for taking for subsistence purposes.

Endangered Species Act

Section 7(a)(2) of the ESA of 1973 (16 U.S.C. 1531 et seq.) requires that each Federal agency insure that any action it authorizes, funds, or carries out is not likely to jeopardize the continued existence of any endangered or threatened species or result in the destruction or adverse modification of designated critical habitat. To ensure ESA compliance for the issuance of IHAs, NMFS consults internally whenever we propose to authorize take for endangered or threatened species.

No incidental take of ESA-listed species is proposed for authorization or expected to result from this activity. Therefore, NMFS has determined that formal consultation under section 7 of the ESA is not required for this action.

Proposed Authorization

As a result of these preliminary determinations, NMFS proposes to issue an IHA to the USFWS Refuge for conducting research, monitoring, and management activities on the South Farallon Islands, provided the previously mentioned mitigation, monitoring, and reporting requirements are incorporated. A draft of the proposed IHA can be found at: https://www.fisheries.noaa.gov/national/marine-mammal-protection/incidental-take-authorizations-research-and-other-activities.

Request for Public Comments

We request comment on our analyses, the proposed authorization, and any other aspect of this notice of proposed IHA for the USFWS Refuge's proposed research, monitoring, and management activities. We also request comment on the potential renewal of this proposed IHA as described in the paragraph below. Please include with your comments any supporting data or literature citations to help inform decisions on the request for this IHA or a subsequent renewal IHA.

On a case-by-case basis, NMFS may issue a one-time, 1-year renewal IHA following notice to the public providing an additional 15 days for public comments when (1) up to another year of identical or nearly identical activities as described in the Description of Proposed Activity section of this notice is planned or (2) the activities as described in the Description of Proposed Activity section of this notice would not be completed by the time the IHA expires and a renewal would allow for completion of the activities beyond that described in the Dates and Duration section of this notice, provided all of the following conditions are met:

• A request for renewal is received no later than 60 days prior to the needed renewal IHA effective date (recognizing that the renewal IHA expiration date cannot extend beyond 1 year from expiration of the initial IHA).

• The request for renewal must include the following:

(1) An explanation that the activities to be conducted under the requested renewal IHA are identical to the activities analyzed under the initial IHA, are a subset of the activities, or include changes so minor (e.g., reduction in pile size) that the changes do not affect the previous analyses, mitigation and monitoring requirements, or take estimates (with the exception of reducing the type or amount of take).

(2) A preliminary monitoring report showing the results of the required monitoring to date and an explanation showing that the monitoring results do not indicate impacts of a scale or nature not previously analyzed or authorized.

• Upon review of the request for renewal, the status of the affected species or stocks, and any other pertinent information, NMFS determines that there are no more than minor changes in the activities, the mitigation and monitoring measures will remain the same and appropriate, and the findings in the initial IHA remain valid.

Dated: July 10, 2025.
Kimberly Damon-Randall,
Director, Office of Protected Resources, National Marine Fisheries Service.

[FR Doc. 2025-13168 Filed 7-14-25; 8:45 am]

BILLING CODE 3510-22-P